DEPARTMENT OF ENERGY

Federal Energy Regulatory Commission

[Docket No. ER99-1213-002, et al.]

Lakewood Cogeneration, L.P., et al.; Electric Rate and Corporate Filings

June 28, 2004.

The following filings have been made with the Commission. The filings are listed in ascending order within each docket classification.

1. Lakewood Cogeneration, L.P.

[Docket No. ER99-1213-002]

Take notice that on June 23, 2004, Lakewood Cogeneration L.P., (Lakewood) submitted a for filing amending its Tariff for the Wholesale Sale of Electricity at Market-Based Rates to include the Market Behavior Rules promulgated by the Commission, Investigation of Terms and Conditions of Public Utility Market-Based Rate Authorizations, 105 FERC ¶ 61,218 (2003), and to reflect the transfer of certain ownership interests.

Comment Date: July 14, 2004.

2. Bangor Hydro-Electric Company

[Docket No. ER00-980-011]

Take notice that on June 23, 2004, Bangor Hydro-Electric Company (Bangor Hydro) submitted an Errata to June 15, 2004, Informational Filing showing the implementation of Bangor Hydro's open access transmission tariff formula rate for the charges that became effective on June 1, 2004.

Comment Date: July 14, 2004.

3. Monongahela Power Company

[Docket No. ER01-1716-001]

Take notice that on June 10, 2004, Monongahela Power Company (dba Allegheny Power) (Monongahela) submitted for filing Final Order of the Public Utilities Commission (PUC) of Ohio accepting Monongahela Power Company's proposed transmission/distribution separation methodology.

Monongahela states that copies of this letter have been served on PUC of Ohio.

Comment Date: July 9, 2004.

4. Rock River I, LLC.

[Docket No. ER01-2742-003]

Take notice that on June 23, 2004, Rock River I, LLC, in compliance with the Letter Order issued March 9, 2004, in Docket No. ER01-2742-002, submitted an amendment to its market-based rate tariff to include certain market behavior rules adopted by the Commission in Investigation of Terms and Conditions of Public Utility Market-Based Rate Authorization, 105 FERC ¶ 61,218 (2003).

Comment Date: July 14, 2004.

5. NewCorp Resources Electric Cooperative, Inc.

[Docket No. ER03-1116-003]

Take notice that on June 23, 2004, NewCorp Resources Electric Cooperative, Inc. (NewCorp) submitted an amendment to its compliance filing submitted on September 29, 2003, as amended on October 2, 2003, in response to the Commission's Letter Order issued August 29, 2003, in Docket No. ER03-1116-000.

Comment Date: July 14, 2004.

6. Devon Power LLC, Middletown Power LLC, Montville Power LLC, and NRG Power Marketing Inc.

[Docket No. ER04-464-006]

Take notice that on June 23, 2004, Devon Power LLC, Middletown Power LLC, Montville Power LLC, and Norwalk Power LLC (collectively Applicants) tendered for filing a Refund Report regarding refunds made under each of Applicants' Reliability Must Run Agreements with ISO-NE in compliance with the Commission's order issued March 22, 2004, in Docket No. ER04-464-000, et al., 106 FERC ¶ 61,264 (2004).

Applicants state that they have provided copies of the Refund Report to ISO-NE and served each person designated on the official service list compiled by the Secretary in this proceeding.

Comment Date: July 14, 2004.

7. Southern Company Services, Inc.

[Docket No. ER04-952-000]

Take notice that on June 23, 2004, Southern Company Services, Inc. (SCS), on behalf of Georgia Power Company (GPC), filed with the Commission a Notice of Cancellation of the Interconnection Agreement between Southern Power Company and GPC, Service Agreement No. 458 under Southern Companies' Open Access Transmission Tariff, Fourth Revised Volume No. 5. SCS requests an effective date of May 24, 2004.

Comment Date: July 14, 2004.

8. Southern Company Services, Inc.

[Docket No. ER04-953-000]

Take notice that on June 23, 2004, Southern Company Services, Inc. (SCS), on behalf of Georgia Power Company (GPC), filed with the Commission a Notice of Cancellation of the Interconnection Agreement between Southern Power Company and GPC, Service Agreement No. 459 under Southern Companies' Open Access Transmission Tariff, Fourth Revised Volume No. 5. GPC requests an effective date of May 24, 2004.

Comment Date: July 14, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1475 Filed 7-6-04; 8:45 am]

BILLING CODE 6717-01-P